DEPARTMENT OF AGRICULTURE

Commodity Credit Corporation

7 CFR Part 1423

RIN 0560-AE50

Standards for Approval of Warehouses for CCC Interest Commodity Storage

AGENCY: Commodity Credit Corporation, USDA.

ACTION: Proposed rule; reopening and extension of comment period.

SUMMARY: The Commodity Credit Corporation (CCC) is reopening and extending the comment period for the proposed rulemaking, “Standards for Approval of Warehouses for CCC Interest Commodity Storage.” The original comment period for the proposed rule closed on January 20, 2004, and CCC is reopening and extending it for 30 days. This action responds to requests from warehouse operators to provide more time to comment on the proposed rule.

DATES: Comments are due March 11, 2004.

ADDRESSES: Comments and requests for additional information should be directed to Howard Froehlich, Chief, Program Development Branch, Warehouse and Inventory Division, Farm Service Agency, United States Department of Agriculture, 1400 Independence Avenue, SW., STOP 0553, Washington, DC 20250-0553, telephone: (202) 720-7398, FAX: (202) 690-3123, e-mail: Howard_Froehlich@wdc.fsa.usda.gov. Persons with disabilities who require alternative means for communication for regulatory information (braille, large print, audiotape, etc.) should contact USDA's TARGET Center at (202) 720-2600 (voice and TDD).

SUPPLEMENTARY INFORMATION: On November 20, 2003, CCC published a proposed rule, “Standards for Approval of Warehouses for CCC Interest Commodity Storage” in the Federal Register (68 FR 65412). The rule proposed to revise regulations covering the storage of commodities in which CCC has an interest. For the most part, those commodities are acquired in connection with non-recourse commodity loan programs that benefit farmers. The rule will consolidate the regulations for all commodities stored by CCC into one set of regulations. In addition, the rule would, in some instances, revise the substantive provisions that are in effect under the existing regulations.

The Agency believes that the request for additional time to comment on the proposed rule is reasonable and will still allow the rulemaking to proceed in a timely manner. As a result of the reopening and extension, the comment period for the proposed rule will close on March 11, 2004.

Signed in Washington, DC, January 23, 2004.
James R. Little,
Executive Vice President, Commodity Credit Corporation.

[FR Doc. 04-2785 Filed 2-9-04; 8:45 am]

BILLING CODE 3410-05-P